ENVIRONMENTAL PROTECTION AGENCY

[FRL-6937-9]

Preliminary Administrative Determination Document on the Question of Whether Ferric Ferrocyanide Is One of the “Cyanides” Within the Meaning of the List of Toxic Pollutants Under the Clean Water Act

AGENCY: Environmental Protection Agency (EPA).

ACTION: Notice of document availability and public comment period.

SUMMARY: By order dated October 19, 1995, the United States District Court for the District of Massachusetts stayed the proceedings in Commonwealth of Massachusetts v. Blackstone Valley Electric Co. (No. 94-2286) and referred the question of whether ferric ferrocyanide qualifies as one of the “cyanides” within the meaning of the list of toxic pollutants under the Clean Water Act (CWA) to the U.S. Environmental Protection Agency (EPA). This District Court order followed a U.S. Court of Appeals decision in which the First Circuit determined that it was appropriate to refer this question to EPA for an “administrative determination.” Commonwealth of Massachusetts v. Blackstone Valley Electric Co., 67 F.3d 981 (1st Cir. 1995). Today's notice announces the availability of EPA's preliminary administrative determination for public review and comment.

DATES: Comments and relevant information on this preliminary administrative determination must be submitted to the Agency by March 12, 2001. Comments submitted should be adequately documented.

ADDRESSES: Mail written comments to: FFC Administrative Determination, USEPA, Engineering and Analysis Division (4303), Office of Science and Technology, 1200 Pennsylvania Avenue, Ariel Rios Building, NW., Washington, DC 20460.

FOR FURTHER INFORMATION CONTACT: For further information and to request a copy of the administrative determination contact Dr. Maria Gomez-Taylor, USEPA, Engineering and Analysis Division (4303), Office of Science and Technology, Ariel Rios Building, 1200 Pennsylvania Avenue, NW., Washington, DC 20460; or call (202) 260-1639; or fax (202) 260-7185; or e-mail gomez-taylor.maria@epa.gov.

SUPPLEMENTARY INFORMATION: EPA has prepared a preliminary administrative determination describing EPA's opinion on how to interpret the term “cyanides” (40 CFR 401.15, 40 CFR 302.4, and Table 302.4) as it applies to ferric ferrocyanide. (40 CFR 401.15 contains the list of toxic pollutants, 40 CFR 302.4 provides the designation of hazardous substances, and Table 302.4 at 40 CFR 302.4 contains the list of hazardous substances and reportable quantities.) This preliminary administrative determination document has been prepared in order to respond to a referral from the United States District Court for the District of Massachusetts. By order dated October 19, 1995, the United States District Court for the District of Massachusetts stayed the proceedings in Commonwealth of Massachusetts v. Blackstone Valley Electric Co. (No. 94-2286) and referred the question of whether ferric ferrocyanide qualifies as one of the “cyanides” within the meaning of 40 CFR 401.15, 40 CFR 302.4, and Table 302.4 to the U.S. Environmental Protection Agency (EPA). This District Court order followed a U.S. Court of Appeals decision in which the First Circuit determined that it was appropriate to refer this question to EPA for an “administrative determination.” Commonwealth of Massachusetts v. Blackstone Valley Electric Co., 67 F.3d 981 (1st Cir. 1995).

As explained in the preliminary administrative determination document, it is EPA's preliminary administrative determination that ferric ferrocyanide is one of the “cyanides” within the meaning of 40 CFR 401.15, 40 CFR 302.4, and Table 302.4. This preliminary administrative determination is being issued in order to respond to the referral from the District Court. It is not a legislative rule and notice and comment is not required. However, EPA is soliciting public comment because it had previously notified interested parties of its intent to do so.

Dated: January 18, 2001.
J. Charles Fox,
Assistant Administrator for Water.

[FR Doc. 01-2172 Filed 1-24-01; 8:45 am]

BILLING CODE 6560-50-P